DEPARTMENT OF HOMELAND SECURITY

Coast Guard

33 CFR Part 117

[Docket No. USCG-2013-0923]

Drawbridge Operation Regulation; Lake Washington, Seattle, WA

AGENCY: Coast Guard, DHS.

ACTION: Notice of deviation from drawbridge regulation.

SUMMARY: The Coast Guard has issued a temporary deviation from the operating schedule that governs the Evergreen Point Floating Bridge (State Route 520) across Lake Washington at Seattle, WA. The deviation is necessary to accommodate vehicular traffic attending football games at Husky Stadium at the University of Washington, Seattle, Washington. This deviation allows the bridge to remain in the closed position two hours before and two hours after each game.

DATES: This deviation is effective from 8:00 a.m. on November 9, 2013 through 5:30 p.m. on November 29, 2013.

ADDRESSES: The docket for this deviation, [USCG-2013-0923] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Steven M. Fischer, Thirteenth Coast Guard District Bridge Program Officer, telephone 206-220-7282, email Steven.M.Fischer3@uscg.mil. If you have questions on viewing the docket, call Barbara Hairston, Program Manager, Docket Operations, telephone 202-366-9826.

SUPPLEMENTARY INFORMATION: The Washington State Department of Transportation has requested that the draw span of the Evergreen Point Floating Bridge (State Route 520) remain closed to vessel traffic to facilitate rapid movement of pre-game and post game football traffic. Evergreen Point Floating Bridge (State Route 520) provides three navigational openings for vessel passage: The movable floating span, subject to this closure; and two fixed navigational openings, one on the east end of the bridge and one on the west end. The fixed navigational opening on the east end of the bridge provides a horizontal clearance of 207 feet and a vertical clearance of 57 feet. The opening on the west end of the bridge provides a horizontal clearance of 206 feet and a vertical clearance of 44 feet. Vessels that are able to safely pass through the fixed navigational openings are allowed to do so during this closure period. Under normal conditions, during this time frame, the bridge operates in accordance with 33 CFR § 17.1049(a), which states the bridge shall open on signal if at least two hours notice is given.

This deviation period will cover the dates November 9, 2013 to November 29, 2013 as follows. From 10:30 a.m. to 12:30 p.m. and 3:30 p.m. to 5:30 p.m. on November 29, 2013. The times for the closures on November 9, 2013 will be determined and announced in the Coast Guard's Local Notice to Mariners and Broadcast Notice to Mariners as it becomes available. Due to NCAA television scheduling, the time for the game is not currently available.

The deviation allows the floating draw span of the Evergreen Point Floating Bridge on Lake Washington to remain in the closed position and need not open for maritime traffic for times to be determined on November 9, 2013, and from 10:30 a.m. to 12:30 p.m. and 3:30 p.m. to 5:30 p.m. on November 29, 2013. The bridge shall operate in accordance to 33 CFR § 117.1049(a) at all other times. Waterway usage on the Lake Washington Ship ranges from commercial tug and barge to small pleasure craft. Mariners will be notified and kept informed of the bridge's operational status via the Coast Guard Notice to Mariners publication and Broadcast Notice to Mariners as appropriate. The draw span will be required to open, if needed, for vessels engaged in emergency response operations during this closure period.

In accordance with 33 CFR 117.35(e), the drawbridge must return to its regular operating schedule immediately at the end of the designated time period. This deviation from the operating regulations is authorized under 33 CFR 117.35.

Dated: October 25,2013.
Daryl R. Peloquin,
Acting Bridge Administrator.

[FR Doc. 2013-26817 Filed 11-7-13; 8:45 am]

BILLING CODE 9110-04-P